DEPARTMENT OF HOMELAND SECURITY

Federal Emergency Management Agency

44 CFR Part 67

[Docket ID FEMA-2010-0003; Internal Agency Docket No. FEMA-B-1085]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before May 6, 2010.

ADDRESSES: The corresponding preliminary Flood Insurance Rate Map (FIRM) for the proposed BFEs for each community is available for inspection at the community's map repository. The respective addresses are listed in the table below.

You may submit comments, identified by Docket No. FEMA-B-1085, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Village of Yellow Springs, Ohio
Ohio | Village of Yellow Springs | Yellow Springs Creek | Approximately 0.8 mile upstream of Grinnell Road | None | +886
|  |  | Approximately 0.7 mile downstream of Fairfield Road | None | +905
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Village of Yellow Springs
Maps are available for inspection at 100 Dayton Street, Yellow Springs, OH 45387.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Chambers County, Alabama, and Incorporated Areas
Hardley Creek (Backwater effects from Chattahoochee River) | From the confluence with the Chattahoochee River to approximately 0.53 mile upstream of Stateline Road | +580 | +579 | Unincorporated Areas of Chambers County.
Oseligee Creek | Approximately 1.5 mile downstream of Fredonia Highway | +577 | +576 | Unincorporated Areas of Chambers County.
| Just downstream of Fredonia Highway | +578 | +576
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Chambers County
Maps are available for inspection at 2 South LaFayette Street, Alabama, AL 36862.
Ashley County, Arkansas, and Incorporated Areas
Snake Creek | Approximately 1,400 feet downstream of Main Street | None | +131 | City of Crossett.
| Approximately 1,200 feet downstream of Main Street | None | +131
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Crossett
Maps are available for inspection at City Hall, Main Street, Crossett, AR 71635.
Hempstead County, Arkansas, and Incorporated Areas
Black Branch | Approximately 0.60 mile downstream of County Highway 118 | None | +318 | Unincorporated Areas of Hempstead County.
| Approximately 1,850 feet upstream of Patmos Road | None | +364
North Tributary to Caney Creek | Approximately 1,200 feet downstream of Interstate Highway 30 | None | +288 | Unincorporated Areas of Hempstead County.
| Approximately 1,700 feet upstream of Interstate Highway 30 | None | +302
Pate Creek | Approximately 0.62 mile downstream of South Phillips Drive | None | +278 | Unincorporated Areas of Hempstead County.
| Just upstream of County Highway 248 | None | +311
Tributary to Caney Creek | Approximately 0.41 mile downstream of West 3rd Street | None | +285 | Unincorporated Areas of Hempstead County.
| Approximately 1,800 feet upstream of West 3rd Street | None | +299
Tributary to Pate Creek | At the confluence with Pate Creek | None | +301 | Unincorporated Areas of Hempstead County.
| Approximately 700 feet downstream of Bill Clinton Drive | None | +319
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Hempstead County
Maps are available for inspection at the County Courthouse, 400 South Washington Street, Hope, AR 71801.
Cumberland County, Illinois, and Incorporated Areas
Embarras River | Approximately 600 feet downstream of River Road extended | None | +517 | Village of Jewett.
| Approximately 1,150 feet upstream of River Road extended | None | +518
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Village of Jewett
Maps are available for inspection at the Village Hall, 2 North 12th Avenue, Jewett, IL 62436.
Fulton County, Illinois, and Incorporated Areas
Copperas Creek | Approximately 0.52 mile downstream of U.S. Highway 24 | +455 | +454 | Unincorporated Areas of Fulton County, Village of Banner.
| Approximately 0.51 mile upstream of U.S. Highway 24 | +455 | +454
Illinois River | Approximately 0.88 mile downstream of County Highway 9 extended | +454 | +453 | Unincorporated Areas of Fulton County, Village of Banner, Village of Liverpool.
| Approximately 1.09 mile upstream of Marsh Road extended | +455 | +454
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Fulton County
Maps are available for inspection at the County Courthouse, Supervisor's Office, 100 North Main Street, Lewistown, IL 61542.
Village of Banner
Maps are available for inspection at the Village Hall, 396 South Fulton Street, Banner, IL 61520.
Village of Liverpool
Maps are available for inspection at the Village Hall, 116 South State Street, Liverpool, IL 61543.
Putnam County, Illinois, and Incorporated Areas
Illinois River | Approximately 0.83 mile downstream of the I-180 bridge | +463 | +462 | Unincorporated Areas of Putnam County, Village of Hennepin.
| Approximately 1.93 mile upstream of the IL-89 bridge | +466 | +463
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Putnam County
Maps are available for inspection at the County Courthouse, 120 North 4th Street, Hennepin, IL 61327.
Village of Hennepin
Maps are available for inspection at the Village Hall, 627 East High Street, Hennepin, IL 61327.
Ballard County, Kentucky, and Incorporated Areas
Cane Creek (Backwater effects from Mississippi River) | From the confluence with Shawnee Creek Slough to approximately 2.3 miles upstream of the confluence with Shawnee Creek Slough | +331 | +330 | Unincorporated Areas of Ballard County.
Hazel Creek (Backwater effects from Ohio River) | From the confluence with Brushy Pond Creek to approximately 3.2 miles upstream of the confluence with Brushy Pond Creek | +332 | +331 | Unincorporated Areas of Ballard County.
Humphrey Creek (Backwater effects from Ohio River) | From the confluence with Lucy Creek to approximately 2,007 feet upstream of the confluence with Lucy Creek | +332 | +331 | Unincorporated Areas of Ballard County.
Humphrey Creek Tributary 9 (Backwater effects from Ohio River) | From the confluence with Humphrey Creek to approximately 1,320 feet upstream of the confluence with Humphrey Creek | +332 | +331 | Unincorporated Areas of Ballard County.
Lucy Creek (Backwater effects from Ohio River) | From the confluence with Humphrey Creek to approximately 0.45 mile upstream of the confluence with Humphrey Creek | +332 | +331 | Unincorporated Areas of Ballard County.
Mississippi River | Approximately 3.5 miles downstream of the confluence with the Ohio River | +330 | +329 | Unincorporated Areas of Ballard County.
| Approximately 0.5 mile upstream of the confluence with the Ohio River | +331 | +330
Ohio River | Approximately 3.0 miles upstream of the confluence with the Mississippi River | +331 | +330 | Unincorporated Areas of Ballard County.
| Approximately 6.3 miles upstream of Lock and Dam 53 | +335 | +334
Stovall Creek (Backwater effects from Mississippi River) | From the confluence with the Mississippi River to approximately 1 mile upstream of Mayfield Road | +330 | +329 | Unincorporated Areas of Ballard County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Ballard County
Maps are available for inspection at 134 North 4th Street, Wickliffe, KY 42087.
Hickman County, Kentucky, and Incorporated Areas
Bayou de Chien (Backwater effects from Mississippi River) | From the confluence with Bayou de Chien Tributary 12 to approximately 0.52 mile upstream of the confluence with Bayou de Chien Tributary 12 | None | +321 | Unincorporated Areas of Hickman County.
Bayou de Chien Tributary 12 (Backwater effects from Mississippi River) | From the confluence with Bayou de Chien to approximately 1,900 feet upstream of the confluence with Bayou de Chien | None | +321 | Unincorporated Areas of Hickman County.
Bowles Creek (Backwater effects from Mississippi River) | From the confluence with Obion Creek to approximately 1.1 mile upstream of the confluence with Obion Creek | None | +322 | Unincorporated Areas of Hickman County.
Cane Creek (Backwater effects from Mississippi River) | From the confluence with Obion Creek to approximately 3.1 miles upstream of the confluence with Obion Creek | None | +322 | Unincorporated Areas of Hickman County.
Cane Creek II (Backwater effects from Mississippi River) | From the confluence with Bayou de Chien to approximately 0.8 mile upstream of the confluence with Bayou de Chien | None | +321 | Unincorporated Areas of Hickman County.
Cane Creek II Tributary 1.3 (Backwater effects from Mississippi River) | From the confluence with Cane Creek II to approximately 0.6 mile upstream of the confluence with Cane Creek II | None | +321 | Unincorporated Areas of Hickman County.
Hollingsworth Creek (Backwater effects from Mississippi River) | From the confluence with Obion Creek to approximately 1.4 mile upstream of the confluence with Obion Creek | None | +322 | Unincorporated Areas of Hickman County.
Hurricane Branch (Backwater effects from Mississippi River) | From the confluence with Bayou de Chien to approximately 1.1 miles upstream of the confluence with Bayou de Chien | None | +321 | Unincorporated Areas of Hickman County.
Mississippi River | Approximately 6.3 miles upstream of the confluence of Obion Creek in Fulton County | None | +322 | Unincorporated Areas of Hickman County.
| Approximately 0.5 mile upstream of the confluence with Sandy Branch | None | +325
Obion Creek (Backwater effects from Mississippi River) | Approximately 1.2 mile downstream of the confluence with Whayne Branch | None | +322 | Unincorporated Areas of Hickman County.
Obion Creek Tributary 18 (Backwater effects from Mississippi River) | From the confluence with Obion Creek to approximately 1.9 mile upstream of the confluence with Obion Creek | None | +322 | Unincorporated Areas of Hickman County.
Whayne Branch (Backwater effects from Mississippi River) | From the confluence with Obion Creek to approximately 5.2 miles upstream of the confluence with Obion Creek | None | +322 | Unincorporated Areas of Hickman County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Hickman County
Maps are available for inspection at 110 East Clay Street, Clinton, KY 42031.
Webster County, Kentucky, and Incorporated Areas
Bailey Ditch (Backwater effects from Green River) | From the confluence with Knoblick Creek to approximately 0.93 mile upstream of the confluence with Knoblick Creek | None | +387 | Unincorporated Areas of Webster County.
Deer Creek (Backwater effects from Green River) | From the confluence with East Fork Deer Creek to approximately 1.5 mile upstream of the confluence with East Fork Deer Creek | None | +387 | Unincorporated Areas of Webster County.
East Fork Deer Creek Tributary 1 (Backwater effects from Green River) | From the confluence with Deer Creek to approximately 2.7 miles upstream of the confluence with Deer Creek | None | +387 | Unincorporated Areas of Webster County.
Green River | At approximately 1.5 mile downstream of the confluence with Groves Creek | None | +386 | Unincorporated Areas of Webster County.
| At approximately 5.2 miles upstream of the confluence with Deer Creek | None | +388
Green River Tributary 219 (Backwater effects from Green River) | From the confluence with the Green River to approximately 1.5 mile upstream of the confluence with the Green River | None | +387 | Unincorporated Areas of Webster County.
Groves Creek (Backwater effects from Green River) | From the confluence with the Green River to approximately 5.9 miles upstream of the confluence with the Green River | None | +386 | Unincorporated Areas of Webster County.
Knoblick Creek (Backwater effects from Green River) | From the confluence with Deer Creek to approximately 2.8 miles upstream of the confluence with Deer Creek | None | +387 | Unincorporated Areas of Webster County.
Mock Roy Creek (Backwater effects from Green River) | From the confluence with the Green River to approximately 2.5 miles upstream of the confluence with the Green River | None | +386 | Unincorporated Areas of Webster County.
Pitman Creek (Backwater effects from Green River) | Approximately 1,690 feet upstream of State Highway KY-370 | None | +388 | Unincorporated Areas of Webster County.
| At approximately 3.8 miles upstream of the confluence with the Green River | None | +388
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Webster County
Maps are available for inspection at 35 South U.S. 41A, Dixon, KY 42409.
Assumption Parish, Louisiana, and Incorporated Areas
Flooding Effects of Lake Verret | Approximately 1.14 mile south of the intersection of 69 State Highway and 70 State Highway | +6 | +3 | Unincorporated Areas of Assumption Parish.
| Approximately 2.46 miles south of the intersection of 182 State Highway and 662 State Highway | +6 | +8
Lake Verret | At the intersection of U.S. Highway 90 and State Highway 662 | None | +3 | Unincorporated Areas of Assumption Parish.
| Along shoreline 2.5 miles east of State Highway 70 | None | +8
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Assumption Parish
Maps are available for inspection at the Assumption Parish Hall, 4813 Highway 1, Napoleonville, LA 70390.
East Feliciana Parish, Louisiana, and Incorporated Areas
Amite River | Approximately 2.0 miles downstream of State Highway 37 | None | +110 | Unincorporated Areas of East Feliciana Parish.
| Just downstream from the northeast corner of the county line | None | +205
Pretty Creek | Flooding effects from Pretty Creek extending 1.0 mile west and 1.0 mile east from the confluence with the Comite River | None | +170 | Unincorporated Areas of East Feliciana Parish.
| Flooding effects from Pretty Creek extending 1.5 mile west from State Highway 10 | None | +183
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of East Feliciana Parish
Maps are available for inspection at 12064 Marston Street, Clinton, LA 70722.
Wicomico County, Maryland, and Incorporated Areas
Andrews Branch | Approximately 50 feet upstream of Gordy Mill Road | None | +42 | Unincorporated Areas of Wicomico County.
| Approximately 350 feet upstream of Gordy Mill Road | None | +42
Beaglin Branch | Just upstream of Mount Hermon Road | None | +34 | Unincorporated Areas of Wicomico County, City of Salisbury.
| Just upstream of Tilghman Road | None | +35
Brewington Branch | Just upstream of Conrail | +28 | +31 | Unincorporated Areas of Wicomico County, City of Salisbury.
| Approximately 1,000 feet upstream of Salisbury Bypass (U.S. Routes 50 and 13) | None | +34
Coty Cox Branch | Approximately 100 feet upstream of Jersey Road | None | +29 | Unincorporated Areas of Wicomico County.
| Approximately 1,700 feet upstream of Jersey Road | None | +30
Mayer Branch | Just upstream of Gordy Mill Road | None | +40 | Unincorporated Areas of Wicomico County, Town of Delmar.
| Approximately 1,480 feet upstream of Gordy Mill Road | None | +43
Middle Neck Branch | Approximately 200 feet upstream of the confluence with Johnson Pond | +13 | +15 | Unincorporated Areas of Wicomico County, City of Salisbury.
| Approximately 2,000 feet upstream of Salisbury Bypass (U.S. Routes 50 and 13) | None | +37
Morris Prong | At Jackson Road | +34 | +38 | Unincorporated Areas of Wicomico County.
| Approximately 200 feet upstream of Jackson Road | None | +38
Owens Branch | Just upstream of Private Drive (located approximately 700 feet upstream of Nanticoke Road) | None | +13 | Unincorporated Areas of Wicomico County.
| Approximately 2,100 feet upstream of Private Drive (located approximately 700 feet upstream of Nanticoke Road) | None | +16
Peggy Branch | At the confluence with Middle Neck Branch | +30 | +32 | Unincorporated Areas of Wicomico County, City of Salisbury.
| Just downstream of Aydelotte Road | +30 | +32
Slab Bridge Creek | Just upstream of Division Street | +21 | +22 | Unincorporated Areas of Wicomico County, City of Fruitland.
| Just downstream of Salisbury Bypass (U.S. Routes 13 and 50) | +23 | +25
Tonytank Creek | Just downstream of Riverside Drive | +7 | +9 | Unincorporated Areas of Wicomico County.
| At Nutters Cross Road | +35 | +40
Tuxents Branch | At the confluence with Tonytank Creek | +7 | +9 | Unincorporated Areas of Wicomico County, City of Fruitland.
| Approximately 700 feet upstream of Camden Avenue | None | +19
Unnamed Tributary to Beaglin Branch | At Mount Hermon Road | +30 | +36 | Unincorporated Areas of Wicomico County, City of Salisbury.
| Approximately 100 feet upstream of Mount Hermon Road | None | +36
White Marsh Creek | Just upstream of Nutters Cross Road | None | +40 | Unincorporated Areas of Wicomico County.
| Approximately 600 feet upstream of Nutters Cross Road | None | +40
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Fruitland
Maps are available for inspection at City Hall, 20 Shady Lane, Fruitland, MD 21826.
City of Salisbury
Maps are available for inspection at City Hall, 125 North Division Street, Salisbury, MD 21801.
Town of Delmar
Maps are available for inspection at the Town Hall, East Saint Penn Avenue, Delmar, MD 21875.
Unincorporated Areas of Wicomico County
Maps are available for inspection at the Government Office Building, 125 North Division Street, Room 203, Salisbury, MD 21803.
Calhoun County, Michigan, and Incorporated Areas
Duck Lake | Entire shoreline | None | +930 | Township of Clarence.
Kalamazoo River | Approximately 705 feet downstream of 20th Street | None | +807 | City of Springfield.
| Approximately 0.33 mile upstream of Angell Street | None | +808
Kalamazoo River | Approximately 5 miles upstream of Interstate 69 North | None | +881 | Township of Marshall.
| Approximately 200 feet downstream of Kalamazoo Avenue | None | +885
Kalamazoo River | Approximately 1.08 mile upstream of 23 Mile Road | None | +919 | Township of Sheridan.
| Approximately 1.1 mile upstream of 23 Mile Road | None | +919
| Approximately 1.08 mile downstream of Albion Street | None | +929
| Approximately 0.7 mile downstream of Albion Street | None | +930
Lyon Lake | Entire shoreline | None | +941 | Township of Frendonia.
North Branch Kalamazoo River | Approximately 225 feet upstream of 29½ Mile Road | None | +947 | Township of Sheridan.
| Approximately 0.75 mile upstream of 29½ Mile Road | None | +947
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Springfield
Maps are available for inspection at 601 Avenue A, Springfield, MI 49037.
Township of Clarence
Maps are available for inspection at 27052 R Drive North, Albion, MI 49224.
Township of Frendonia
Maps are available for inspection at 8803 17 Mile Road, Marshall, MI 49068.
Township of Marshall
Maps are available for inspection at 13551 Myron Avery Drive, Marshall, MI 49068.
Township of Sheridan
Maps are available for inspection at 13355 29th Mile Road, Albion, MI 49224.
Fulton County, Ohio, and Incorporated Areas
Bad Creek | Approximately 1,200 feet downstream of State Highway 109 | None | +694 | Village of Delta.
| Approximately 50 feet downstream of State Highway 109 | None | +697
Brush Creek | Approximately 0.5 mile upstream of County Highway 24 | None | +713 | Village of Archbold.
| Approximately 100 feet upstream of County Highway 22 | None | +724
North Turkeyfoot Creek | Approximately 0.7 mile upstream of County Highway 13 | None | +742 | City of Wauseon.
| Approximately 0.8 mile upstream of County Highway 13 | None | +743
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Wauseon
Maps are available for inspection at City Hall, 230 Clinton Street, Wauseon, OH 43567.
Village of Archbold
Maps are available for inspection at the Municipal Building, 300 North Defiance Street, Archbold, OH 43502.
Village of Delta
Maps are available for inspection at Memorial Hall, 401 Main Street, Delta, OH 43515.
Highland County, Ohio, and Incorporated Areas
Clear Creek | Approximately 1.4 mile upstream of State Route 138 | None | +938 | City of Hillsboro, Unincorporated Areas of Highland County.
| Approximately 2.0 miles upstream of State Route 138 | None | +943
Turtle Creek | At the confluence with East Fork Little Miami River | None | +985 | Unincorporated Areas of Highland County.
| Just downstream of Sycamore Street | None | +991
| Approximately 1,840 feet upstream of Sycamore Street | None | +996
| Approximately 0.4 mile upstream of Sycamore Street | None | +996
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Hillsboro
Maps are available for inspection at City Hall, 130 North High Street, Hillsboro, OH 45133.
Unincorporated Areas of Highland County
Maps are available for inspection at 119 Governor Forraker Place, Second Floor, Suite 206, Highland, OH 45133.
Perry County, Ohio, and Incorporated Areas
Black Fork (Backwater effects from Moxahala Creek) | Upstream side of Ceramic Road | None | +755 | Unincorporated Areas of Perry County.
| Confluence with Moxahala Creek | None | +755
Brehm Run | Confluence with Center Branch Rush Creek | None | +824 | Unincorporated Areas of Perry County.
| Approximately 1,640 feet upstream of Toll Gate Road | None | +838
Buckeye Lake | Entire shoreline | None | +893 | Unincorporated Areas of Perry County.
Center Branch Rush Creek | Confluence with Rush Creek | +812 | +811 | Unincorporated Areas of Perry County.
| Approximately 0.9 mile upstream of State Route 668 | None | +856
Clark Run | Approximately 0.7 mile downstream of the confluence with Salem Run | None | +805 | Unincorporated Areas of Perry County.
| Approximately 0.9 mile upstream of Mainesville Road | None | +819
Jonathan Creek | Approximately 900 feet downstream of Main Street in the Village of Glenford | None | +843 | Unincorporated Areas of Perry County.
| Approximately 830 feet upstream of State Route 204 | None | +847
Lideys Run | Confluence with Center Branch Rush Creek | None | +813 | Unincorporated Areas of Perry County.
| Approximately 220 feet upstream of Pen Road | None | +817
Moxahala Creek | Confluence with Black Fork | None | +755 | Unincorporated Areas of Perry County, Village of Crooksville.
| Approximately 1,380 feet upstream of State Route 669 | None | +760
Rush Creek | Approximately 1.0 mile downstream of Flagdale Road | +806 | +805 | Unincorporated Areas of Perry County.
| Approximately 240 feet downstream of the confluence with Center Branch Rush Creek | +811 | +810
Salem Run | Confluence with Clark Run | None | +806 | Unincorporated Areas of Perry County.
| Approximately 0.6 mile upstream of Flagdale Road | None | +824
Sunday Creek | Approximately 0.8 mile downstream of Main Street in the Village of Corning | None | +724 | Unincorporated Areas of Perry County, Village of Corning.
| Approximately 890 feet upstream of Adams Street in the Village of Corning | None | +735
West Branch Sunday Creek | Approximately 1,760 feet downstream of Main Street in the Village of Hemlock | None | +760 | Unincorporated Areas of Perry County, Village of Hemlock.
| Approximately 1,700 feet upstream of Main Street in the Village of Hemlock | None | +767
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Perry County
Maps are available for inspection at 109-A East Gay Street, Somerset, OH 43783.
Village of Corning
Maps are available for inspection at 115 South Corning Avenue, Corning, OH 43730.
Village of Crooksville
Maps are available for inspection at 98 South Buckeye Street, Crooksville, OH 43731.
Village of Hemlock
Maps are available for inspection at 8810 Main Street Southeast, Hemlock, OH 43730.
Sandusky County, Ohio, and Incorporated Areas
Flag Run | Approximately 0.4 mile downstream of North Broadway Street | None | +669 | Unincorporated Areas of Sandusky County, Village of Green Springs.
| Approximately 1,700 feet downstream of North Broadway Street | None | +670
Portage River | Approximately 0.7 mile downstream of railroad | None | +625 | Unincorporated Areas of Sandusky County.
| Approximately 1,800 feet downstream of railroad | None | +626
| Approximately 1,300 feet upstream of South Cherry Street | None | +631
| Approximately 0.5 mile upstream of South Cherry Street | None | +632
Sandusky River | Approximately 1,800 feet upstream of U.S. Route 20 | None | +586 | City of Fremont.
| Approximately 0.4 mile downstream of Tiffin Road | None | +596
Victoria Creek | Approximately 200 feet upstream of Fort Findlay Road | +630 | +629 | Village of Woodville.
| Approximately 100 feet downstream of Grand Avenue | +630 | +629
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Fremont
Maps are available for inspection at 323 South Front Street, Fremont, OH 43420.
Unincorporated Areas of Sandusky County
Maps are available for inspection at 606 West State Street, Fremont, OH 43420.
Village of Green Springs
Maps are available for inspection at 120 Catherine Street, Green Springs, OH 44836.
Village of Woodville
Maps are available for inspection at 219 West Main Street, Woodville, OH 43469.
Scioto County, Ohio, and Incorporated Areas
Bonser Run (Backwater effects from Ohio River) | Approximately 1,240 feet upstream of Milldale Road | None | +538 | Unincorporated Areas of Scioto County.
| Approximately 620 feet upstream of Elliot Hill Road | None | +538
Candy Run (Backwater effects from Scioto River) | Confluence with the Scioto River | None | +535 | Unincorporated Areas of Scioto County.
| Approximately 0.5 mile upstream of Huston Hollow-Long Run Road | None | +535
Duck Run (Backwater effects from Scioto River) | Approximately 547 feet upstream of Duck Run-Otway Road | None | +535 | Unincorporated Areas of Scioto County.
| Just downstream of McDermott Pond Creek Road | None | +535
Lick Run (Backwater effects from Ohio River) | Approximately 0.5 mile upstream of State Route 522 | None | +538 | Unincorporated Areas of Scioto County.
| Confluence with Pine Creek | None | +538
Little Scioto River (Backwater effects from Ohio River) | Approximately 4.6 miles upstream of Dixon Mill Road | None | +538 | Unincorporated Areas of Scioto County.
| Approximately 447 feet upstream of Slocum Avenue | None | +538
Little Scioto River Tributary 3 (Backwater effects from Ohio River) | Confluence with the Little Scioto River | None | +538 | Unincorporated Areas of Scioto County.
| Approximately 680 feet upstream of Chesapeake-Ohio Railway | None | +538
Munn Run | Just upstream of U.S. 52 Westbound (Gallia Street) | None | +536 | City of Portsmouth, Village of New Boston.
| Approximately 860 feet upstream of Valley Street | None | +551
Oven Lick Run (Backwater effects from Ohio River) | Approximately 0.4 mile upstream of State Route 140 | None | +538 | Unincorporated Areas of Scioto County.
| Confluence with Wards Run | None | +538
Scioto Brush Creek (Backwater effects from Scioto River) | Approximately 840 feet downstream of McDermott Pond Creek Road | None | +535 | Unincorporated Areas of Scioto County.
| Approximately 0.5 mile downstream of State Route 104 | None | +535
Swaugar Valley Run (Backwater effects from Ohio River) | Approximately 1,250 feet downstream of Elliot Hill Road | None | +538 | Unincorporated Areas of Scioto County.
| Approximately 1,200 feet upstream of Elliot Hill Road | None | +538
Swaugar Valley Run Tributary 1 (Backwater effects from Ohio River) | Confluence with Swaugar Valley Run | None | +538 | Unincorporated Areas of Scioto County.
| Approximately 600 feet upstream of Swaugar Valley Road | None | +538
Wards Run (Backwater effects from Ohio River) | Confluence with the Little Scioto River | None | +538 | Unincorporated Areas of Scioto County.
| Approximately 0.7 mile upstream of State Route 140 | None | +538
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Portsmouth
Maps are available for inspection at 728 2nd Street, Portsmouth, OH 45662.
Unincorporated Areas of Scioto County
Maps are available for inspection at 617 Court Street, Portsmouth, OH 45662.
Village of New Boston
Maps are available for inspection at 3980 Rhodes Avenue, New Boston, OH 45662.
Seneca County, Ohio, and Incorporated Areas
Morrison Creek (Backwater from Sandusky River) | At the confluence with the Sandusky River | None | +717 | Unincorporated Areas of Seneca County.
| Approximately 700 feet upstream of the confluence with the Sandusky River | None | +717
Sandusky River | Approximately 1.0 mile downstream of Huss Street | None | +709 | City of Tiffin, Unincorporated Areas of Seneca County.
| Approximately 1,600 feet downstream of U.S. Route 224 | None | +745
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Tiffin
Maps are available for inspection at 51 East Market Street, Tiffin, OH 44883.
Unincorporated Areas of Seneca County
Maps are available for inspection at 109 South Washington Street, Suite 2002, Tiffin, OH 44883.
Grady County, Oklahoma, and Incorporated Areas
Congo Creek | At the confluence with Washita River | +1,077 | +1,078 | City of Chickasha, Unincorporated Areas of Grady County.
| Just upstream of Grand Avenue | +1,115 | +1,117
Line Creek | At the confluence with Washita River | None | +1,085 | City of Chickasha, Unincorporated Areas of Grady County.
| Just downstream of Highway 62 | +1,097 | +1,099
Line Creek Split | Just upstream of Burlington Northern Railroad | None | +1,093 | City of Chickasha, Unincorporated Areas of Grady County.
| At the confluence with Line Creek | None | +1,099
Washita River | Approximately 1.98 mile downstream of confluence with Congo River | None | +1,078 | City of Chickasha, Unincorporated Areas of Grady County.
| Approximately 0.81 mile upstream of N2840 | None | +1,095
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Chickasha
Maps are available for inspection at City Hall, 101 North 6th Street, Chickasha, OK 73018.
Unincorporated Areas of Grady County
Maps are available for inspection at the Grady County Floodplain Management Board, 315 West Pennsylvania Avenue, Chickasha, OK 73092.
Jackson County, Oregon, and Incorporated Areas
Daisy Creek | At the confluence with Griffin Creek | None | +1,274 | Unincorporated Areas of Jackson County, City of Central Point.
| Just upstream of Beall Lane | None | +1,299
Elk Creek | At the confluence with Bear Creek | None | +1,271 | Unincorporated Areas of Jackson County, City of Central Point.
| Just upstream of Beall Lane | None | +1,297
Griffin Creek | At the confluence with Bear Creek | None | +1,214 | Unincorporated Areas of Jackson County, City of Central Point.
| Just downstream of Taylor Road | +1,265 | +1,267
| Just upstream of Beall Lane | *1,297 | +1,301
Horn Creek | At the confluence with Jackson Creek | None | +1,264 | Unincorporated Areas of Jackson County, City of Central Point.
| Just downstream of Mendolia Way | None | +1,281
| Just upstream of Grant Road | None | +1,290
Jackson Creek | Just downstream of Scenic Avenue | None | +1,235 | Unincorporated Areas of Jackson County, City of Central Point.
| Just downstream of Taylor Road | None | +1,266
| Just upstream of Beall Lane | None | +1,301
Jackson Creek Overbank | At the confluence with Jackson Creek | None | +1,238 | Unincorporated Areas of Jackson County, City of Central Point.
| At the divergence from Griffin Creek | None | +1,258
Mingus Creek | Just downstream of Pine Street | None | +1,261 | Unincorporated Areas of Jackson County, City of Central Point.
| Just upstream of Highway 99 | None | +1,295
Rouge River | Approximately 500 feet upstream of Savage Rapids Dam | +978 | +975 | Unincorporated Areas of Jackson County.
| Approximately 1.02 mile upstream of the confluence with Little Savage Creek | +992 | +987
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Central Point
Maps are available for inspection at City Hall, 140 South 3rd Street, Central Point, OR 97502.
Unincorporated Areas of Jackson County
Maps are available for inspection at City Hall, 10 South Oakdale, Room 200, Medford, OR 97501.
Abbeville County, South Carolina, and Incorporated Areas
Blue Hill Creek | Approximately 1,546 feet downstream of South Main Street | +468 | +462 | City of Abbeville.
| Approximately 1,484 feet upstream of Vienna Street | +500 | +501
Blue Hill Creek Tributary | Approximately 315 feet upstream of the confluence with Blue Hill Creek | +493 | +494 | City of Abbeville.
| Approximately 100 feet upstream of Haigler Street Extended | +556 | +559
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Abbeville
Maps are available for inspection at the Fire Department, 102 South Main Street, Abbeville, SC 29620.
Edgefield County, South Carolina, and Incorporated Areas
Stevens Creek | Approximately 200 feet downstream of Woodland Road | None | +191 | Unincorporated Areas of Edgefield County.
| At the confluence with the Savannah River | None | +191
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Edgefield County
Maps are available for inspection at the County Courthouse, 124 Courthouse Square, Edgefield, SC 29824.
Brazos County, Texas, and Incorporated Areas
Bee Creek Tributary B | Approximately 1,700 feet downstream of Christine Lane | None | +286 | City of College Station.
| Just downstream of Southwest Parkway | None | +292
Lick Creek | Approximately 1,000 feet downstream of Mission Hills Drive | +219 | +216 | City of College Station.
| Approximately 1.0 mile upstream of William D. Fitch Parkway | None | +253
South Fork of Turkey Creek | At the confluence with Turkey Creek | None | +262 | City of Bryan.
| Approximately 650 feet downstream of Farm-to-Market 2818 | None | +282
Turkey Creek | Approximately 2 miles downstream from Jones Road | None | +226 | City of Bryan, Unincorporated Areas of Brazos County.
| Just downstream of Farm-to-Market 1688 | None | +333
Turkey Creek Tributary B | At the confluence with Turkey Creek | None | +250 | City of Bryan.
| Approximately 0.6 mile upstream of the confluence with Turkey Creek Tributary B1 | None | +292
Turkey Creek Tributary B1 | At the confluence with Turkey Creek Tributary B | None | +268 | City of Bryan.
| Approximately 0.5 mile upstream of the confluence with Turkey Creek Tributary B | None | +290
Turkey Creek Tributary C | At the confluence with Turkey Creek | None | +240 | City of Bryan.
| Approximately 0.5 mile upstream of Villa Maria Road | None | +260
Turkey Creek Tributary D | At the confluence with Turkey Creek | None | +239 | City of Bryan.
| Just downstream of Traditions Drive | None | +273
Turkey Creek Tributary D1 | At the confluence with Turkey Creek Tributary D | None | +252 | City of Bryan.
| Approximately 1,950 feet upstream of the confluence with Turkey Creek Tributary D | None | +276
Unnamed Tributary to Bee Creek Tributary B | At the confluence with Bee Creek Tributary B | None | +291 | City of College Station.
| Approximately 613 feet upstream of the confluence with Bee Creek Tributary B | None | +293
Unnamed Tributary to White Creek | Approximately 573 feet upstream of the confluence with Unnamed Tributary to White Creek Tributary 3 | None | +277 | City of College Station.
| Approximately 1,800 feet downstream of the confluence with White Creek Tributary 1 | None | +302
Unnamed Tributary to White Creek Tributary 1 | At the confluence with Unnamed Tributary to White Creek | None | +289 | City of College Station.
| Approximately 1,180 feet upstream of the confluence with Unnamed Tributary to White Creek | None | +300
Unnamed Tributary to White Creek Tributary 2 | At the confluence with Unnamed Tributary to White Creek | None | +295 | City of College Station.
| Approximately 600 feet upstream of Farm-to-Market 2818 | None | +308
Unnamed Tributary to White Creek Tributary 3 | At the confluence with Unnamed Tributary to White Creek | None | +300 | City of College Station.
| Approximately 280 feet upstream of the confluence with Unnamed Tributary to White Creek | None | +303
Wickson Creek Tributary 23 | At the confluence with Wickson Creek | None | +267 | Unincorporated Areas of Brazos County.
| Approximately 284 feet downstream of Old Reliance Road | None | +268
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Bryan
Maps are available for inspection at 300 South Texas Avenue, 1st Floor, Engineering Services Department, Bryan, TX 77803.
City of College Station
Maps are available for inspection at 1101 Texas Avenue, Development Engineering Division, College Station, TX 77842.
Unincorporated Areas of Brazos County
Maps are available for inspection at 2617 Highway 21 West, Brazos County Road and Bridge Department, Bryan, TX 77803.
Llano County, Texas, and Incorporated Areas
Colorado River | Just upstream of the confluence with Spring Branch Creek | +831 | +830 | Unincorporated Areas of Llano County, City of Sunrise Beach Village.
| Approximately 1.2 mile upstream of County Highway 222 | +1,029 | +1,025
Dry Creek | At the confluence with the Llano River | +857 | +858 | Unincorporated Areas of Llano County.
| Just downstream of County Highway 3404 | None | +860
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Sunrise Beach Village
Maps are available for inspection at 124 Sunrise Drive, Sunrise Beach Village, TX 78643.
Unincorporated Areas of Llano County
Maps are available for inspection at 801 Ford Street, Llano, TX 78643.
Maverick County, Texas, and Incorporated Areas
Tributary to Seco Creek | Approximately 115 feet downstream of U.S. Highway 277 | +736 | +737 | City of Eagle Pass, Unincorporated Areas of Maverick County.
| Approximately 200 feet upstream of U.S. Highway 277 | +739 | +740
Unnamed Tributary of Rio Grande | Approximately 200 feet upstream of Laura Street | +736 | +737 | Unincorporated Areas of Maverick County.
| Just downstream of Montemayor Street | None | +749
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Eagle Pass
Maps are available for inspection at 500 Quarry Street, Suite 3, Eagle Pass, TX 78852.
Unincorporated Areas of Maverick County
Maps are available for inspection at 100 South Monroe Street, Eagle Pass, TX 78852.

(Catalog of Federal Domestic Assistance No. 97.022, “Flood Insurance.”)

Sandra K. Knight,
Deputy Assistant Administrator for Mitigation, Department of Homeland Security, Federal Emergency Management Agency.

[FR Doc. 2010-2478 Filed 2-4-10; 8:45 am]

BILLING CODE 9110-12-P